DEPARTMENT OF AGRICULTURE

Submission for OMB Review; Notice of Request for Emergency Extension

May 12, 2021.

In compliance with the requirements of the Paperwork Reduction Act of 1995 (PRA), the Department of Agriculture (USDA) has submitted a request to the Office of Management and Budget (OMB) for a three-month emergency extension of the following information collection: ICR 0570-0067, Rural Energy for America Program (REAP). The requested extension would enable the collection to remain active while USDA completes the pending PRA renewal process. No changes are being made to the reporting and recordkeeping requirements.

Rural Business-Cooperative Service

Title: Rural Energy for America Program.

OMB Control Number: 0570-0067.

Summary of Collection: The PRA renewal process for this information collection is ongoing. To ensure that OMB approval of the current information collection remains active during the PRA renewal process, USDA has submitted a request to the OMB for a short-term emergency extension, to August 31, 2021.

On May 11, 2021 the Director, Regulations Management Division Innovation Center, Rural Development, USDA signed a memorandum to the Administrator of the Office of Information and Regulatory Affairs, OMB. The memorandum included a request for an emergency extension, explained the USDA's justification for an extension, and was electronically submitted to OMB on May 12, 2021.

Levi S. Harrell,
Departmental Information Collection Clearance Officer.

[FR Doc. 2021-10399 Filed 5-18-21; 8:45 am]

BILLING CODE 3410-XY-P